ENVIRONMENTAL PROTECTION AGENCY

[OPP-00678A; FRL-6748-8]

FIFRA Scientific Advisory Panel, Notice of Public Meeting; Correction

AGENCY: Environmental Protection Agency (EPA).

ACTION: Notice; correction.

SUMMARY: This document corrects the location of the October 18, 19, and 20, 2000, open meeting of the Federal Insecticide, Fungicide, and Rodenticide Act (FIFRA) and Food Quality Protection Act (FQPA) Scientific Advisory Panel (SAP) in which the FIFRA SAP is reviewing a set of issues being considered by the Agency pertaining to the Bt plant pesticides risk and benefit assessments.

ADDRESSES: The meeting will be held at the Crystal City Marriott Hotel, 1999 Jefferson Davis Hwy., Arlington, VA. The telephone number for the Crystal City Marriott Hotel is (703) 413-5500.

FOR FURTHER INFORMATION CONTACT: Paul Lewis, Designated Federal Officer (DFO), Office of Science Coordination and Policy (7101C), Environmental Protection Agency, 1200 Pennsylvania Ave., NW., Washington, DC 20460; telephone number: (703) 305-5369; fax number: (703) 605-0656; e-mail address: lewis.paul@epa.gov.

SUPPLEMENTARY INFORMATION:

I. General Information

A. Does this Action Apply to Me?

This action is directed to the public in general. This action may, however, be of interest to those persons who are or may be required to conduct testing of chemical substances under the Federal Food, Drug and Cosmetic Act (FFDCA), the Federal Insecticide, Fungicide, and Rodenticide Act (FIFRA), and the Food Quality Protection Act (FQPA). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home page at http://www.epa.gov/. To access this document, on the Home Page select “Laws and Regulations,” “Regulations and Proposed Rules,” and then look up the entry for this document under the “Federal Register—Environmental Documents.” You can also go directly to the Federal Register listings at http://www.epa.gov/fedrgstr/.

A meeting agenda is currently available; copies of EPA primary background documents for this meeting will be available by late September. You may obtain electronic copies of these documents, and certain other related documents that might be available electronically, from the FIFRA SAP Internet Home Page at http://www.epa.gov/scipoly/sap.

2. In person. The Agency has established an official record for this meeting under docket control number OPP-00678A. The official record consists of the documents specifically referenced in this notice, any public comments received during an applicable comment period, and other information related to the Bt plant pesticides risk and benefit assessments, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

The original notice announcing the FIFRA SAP meeting for October 18, 19, and 20, 2000 (FR Doc. 00-22818) was published in the Federal Register of September 6, 2000 (65 FR 54001) (FRL-6743-3). Through an administrative error, the document contains the wrong address for this meeting.

List of Subjects

Environmental protection.

Dated: September 19, 2000.
Martha Shimkin,
Acting Director, Office of Science Coordination and Policy.

[FR Doc. 00-24678 Filed 9-26-00; 8:45 am]

BILLING CODE 6560-50-S